SMALL BUSINESS ADMINISTRATION

Disaster Declaration #11284 and #11285

California Disaster #CA-00084

AGENCY: U.S. Small Business Administration.

ACTION: Notice.

SUMMARY: This is a notice of an Administrative declaration of a disaster for the State of California dated 06/12/2008.

Incident: Wildland Fire.

Incident Period: 05/22/2008 through 05/30/2008.

EFFECTIVE DATE: 06/12/2008.

Physical Loan Application Deadline Date: 08/11/2008.

Economic Injury (EIDL) Loan Application Deadline Date: 03/12/2009.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties:

Santa Cruz.

Contiguous Counties:

California:

Monterey, San Benito, San Mateo, Santa Clara.

The Interest Rates are:

Homeowners With Credit Available Elsewhere: 5.375

Homeowners Without Credit Available Elsewhere: 2.687

Businesses With Credit Available Elsewhere: 8.000

Businesses & Small Agricultural Cooperatives Without Credit Available Elsewhere: 4.000

Other (Including Non-Profit Organizations) With Credit Available Elsewhere: 5.250

Businesses and Non-Profit Organizations Without Credit Available Elsewhere: 4.000

The number assigned to this disaster for physical damage is 11284 5 and for economic injury is 11285 0.

The State which received an EIDL Declaration # is California.

(Catalog of Federal Domestic Assistance Numbers 59002 and 59008)

Dated: June 12, 2008.
Jovita Carranza,
Acting Administrator.

[FR Doc. E8-13871 Filed 6-18-08; 8:45 am]

BILLING CODE 8025-01-P